FEDERAL COMMUNICATIONS COMMISSION

47 CFR Part 64

[CG Docket No. 10-51; FCC 11-118]

Structure and Practices of the Video Relay Service Program

AGENCY: Federal Communications Commission.

ACTION: Correcting amendments.

SUMMARY: This document contains a correction to the interim regulations of the Commission's rules, which were published in the Federal Register on Monday, August 5, 2011. The interim regulations require Internet-based Telecommunications Relay Service (iTRS) providers certify, under penalty of perjury, that their certification applications and annual compliance filings are truthful, accurate, and complete.

DATES: Effective June 7, 2012.

FOR FURTHER INFORMATION CONTACT: Gregory Hlibok, Consumer and Governmental Affairs Bureau at (202) 559-5158 (voice/videophone), or email Gregory.Hlibok@fcc.gov.

SUPPLEMENTARY INFORMATION:

The Federal Communications Commission published a document amending 47 CFR 64.606 in the Federal Register of August 5, 2011, (76 FR 47476). The amended rules are necessary to help ensure that the Commission has true and complete information, thereby ensuring that only qualified providers are eligible for compensation from the Interstate TRS Fund (Fund).

Need for Correction

As published, the interim regulations inadvertently omitted regulatory text which may prove to be misleading and needs to be corrected accordingly.

List of Subjects in 47 CFR Part 64

Individuals with disabilities, Reporting and recordkeeping requirements, Telecommunications.

Federal Communications Commission.
Marlene H. Dortch,
Secretary.

Accordingly, 47 CFR part 64 is corrected by making the following correcting amendments:

PART 64—-MISCELLANEOUS RULES RELATING TO COMMON CARRIERS

1. The authority citation for part 64 continues to read as follows:

Authority: 47 U.S.C. 154, 254(k); 403(b)(2)(B), (c), Pub. L. 104-104, 110 Stat. 56. Interpret or apply 47 U.S.C. 201, 218, 222, 225, 226, 227, 228, 254(k), 616, and 620 unless otherwise noted.

2. Amend § 64.606 by adding paragraph (a)(2)(v) to read as follows:

§ 64.606 Internet-based TRS provider and TRS program certification.

(a) * * *

(2) * * *

(v) The chief executive officer (CEO), chief financial officer (CFO), or other senior executive of an applicant for Internet-based TRS certification under this section with first hand knowledge of the accuracy and completeness of the information provided, when submitting an application for certification under paragraph (a)(2) of this section, must certify as follows: I swear under penalty of perjury that I am ________(name and title), ________an officer of the above-named applicant, and that I have examined the foregoing submissions, and that all information required under the Commission's rules and orders has been provided and all statements of fact, as well as all documentation contained in this submission, are true, accurate, and complete.

* * * * *

[FR Doc. 2012-13791 Filed 6-6-12; 8:45 am]

BILLING CODE 6712-01-P